COMMITTEE FOR THE IMPLEMENTATION OF TEXTILE AGREEMENTS

Reduction of Charges for Certain Cotton Textile Products Produced or Manufactured in the Republic of Turkey

December 4, 2001.

AGENCY: Committee for the Implementation of Textile Agreements (CITA).

ACTION: Issuing a directive to the Commissioner of Customs reducing charges.

EFFECTIVE DATE: December 11, 2001.

FOR FURTHER INFORMATION CONTACT: Roy Unger, International Trade Specialist, Office of Textiles and Apparel, U.S. Department of Commerce, (202) 482-4212.

SUPPLEMENTARY INFORMATION:

Authority: Section 204 of the Agricultural Act of 1956, as amended (7 U.S.C. 1854); Executive Order 11651 of March 3, 1972, as amended.

On June 26, 2001, in response to a request from the Government of Turkey, CITA published an adjusted limit for Category 350 from Turkey. On November 21, 2001, CITA reduced charges against this limit by 9,533 dozen (see 66 FR 58123, published on November 20, 2001, with an amendment published on November 29, 2001 in 66 FR 59602). As a result of further discussions with the Government of Turkey, CITA is instructing U.S. Customs to reduce the charges applied to the limit established in the directive dated October 27, 2000, for goods exported in 2001, for Category 350 by an additional 20,000 dozens.

D. Michael Hutchinson,
Acting Chairman, Committee for the Implementation of Textile Agreements.

Committee for the Implementation of Textile Agreements

December 4, 2001.

Commissioner of Customs,

Department of the Treasury, Washington, DC 20229.

Pursuant to further discussions with the Government of Turkey, effective on December 11, 2001, you are directed to reduce the charges applied to the limit established in the directive dated October 27, 2000, for goods exported in 2001, for Category 350 by 20,000 dozens.

The Committee for the Implementation of Textile Agreements has determined that this action falls within the foreign affairs exception of the rulemaking provisions of 5 U.S.C. 553(a)(1).

Sincerely,

D. Michael Hutchinson,

Acting Chairman, Committee for the Implementation of Textile Agreements.

[FR Doc. 01-30374 Filed 12-4-01; 2:55 pm]

BILLING CODE 3510-DR-S